DEPARTMENT OF DEFENSE

Office of the Secretary

32 CFR Part 343

[DoD Directive 5124.02]

Under Secretary of Defense for Personnel and Readiness (USD(P&R))

AGENCY: Department of Defense.

ACTION: Final rule.

SUMMARY: This document removes part 343, “Under Secretary of Defense for Personnel and Readiness (USD(P&R))” in Title 32 of the Code of Federal Regulations. This part has served the purpose for which it was intended in the CFR and is no longer necessary.

DATES: Effective Date: February 24, 2006.

FOR FURTHER INFORMATION CONTACT: L.M. Bynum, (703) 696-4970.

SUPPLEMENTARY INFORMATION: This part 343 is removed to as a part of a DoD exercise to remove organizational charters from the CFR. The revised DoD Directive 5124.04 is available at http://www.dtic.mil/whs/directives/corres/htm/512402.htm

List of Subjects in 32 CFR Part 343

Organizations.

PART 343—[REMOVED]

Accordingly, by the authority of 10 U.S.C. 301, 32 CFR part 343 is removed.

Dated: February 17, 2006.
L.M. Bynum,
Alternate OSD Federal Register Liaison Officer, Department of Defense.

[FR Doc. 06-1731 Filed 2-23-06; 8:45 am]

BILLING CODE 5001-06-M